DEPARTMENT OF THE INTERIOR

Fish and Wildlife Service

[FWS-HQ-IA-2019-N116; FXIA16710900000-190-FF09A30000; OMB Control Number 1018-0093]

Agency Information Collection Activities; Federal Fish and Wildlife Permit Applications and Reports—Management Authority

AGENCY: Fish and Wildlife Service, Interior.

ACTION: Notice of information collection; request for comment.

SUMMARY: In accordance with the Paperwork Reduction Act of 1995, we, the U.S. Fish and Wildlife Service (Service, we), are proposing to renew an information collection with revisions.

DATES: Interested persons are invited to submit comments on or before December 23, 2019.

ADDRESSES: Send your comments on the information collection request by mail to the Service Information Collection Clearance Officer, U.S. Fish and Wildlife Service, MS: JAO/1N, 5275 Leesburg Pike, Falls Church, VA 22041-3803 (mail); or by email to Info_Coll@fws.gov. Please reference OMB Control Number 1018-0093 in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: All of the laws, treaties, and regulations administered by the Service that authorize activities requiring permits authorize such permits in 50 CFR 13 (General Permit Requirements). The requirements in 50 CFR part 13 are in addition to any other permit regulations that may apply to a specific circumstance and are outlined in other sections of our regulations.

The Wild Bird Conservation Act (WBCA) and the Convention on International Trade in Endangered Species of Wild Fauna and Flora (CITES) use a system of permits and certificates to help ensure that international trade is legal and does not threaten the survival of wildlife or plant species in the wild. Permits under the U.S. Endangered Species Act (ESA) and the Marine Mammal Protection Act (MMPA) ensure that activities are consistent with the intent and purposes of the ESA and MMPA. Permitted activities under the Bald and Golden Eagle Act (BGEPA) must be compatible with the preservation of the eagle, and Lacey Act (injurious wildlife) permits are issued when the Service finds the activity will not be harmful to either the health or welfare of humans. Prior to the import or export of species listed under the MMPA, BGEPA, Lacey Act, WBCA, ESA, and/or CITES, the Management Authority and Scientific Authority must make appropriate determinations and issue the appropriate documents. Section 8A of the Endangered Species Act (16 U.S.C. 1531 et seq.) designates the Secretary of the Interior as the U.S. Management Authority and U.S. Scientific Authority for CITES. The Secretary delegated these authorities to the Service.

Before a country can issue an export permit for CITES Appendix I or II specimens, the CITES Scientific Authority of the exporting country must determine that the export will not be detrimental to the species, and the Management Authority must be satisfied that the specimens were acquired legally. For the export of Appendix III specimens, the Management Authority must be satisfied that the specimens were acquired legally (CITES does not require findings from the Scientific Authority). Prior to the importation of Appendix I specimens, both the Scientific Authority and the Management Authority of the importing country must make required findings. The Scientific Authority must also monitor trade of all species to ensure that the level of trade is sustainable.

Article VIII(3) of the CITES treaty states that participating parties should make efforts to ensure that CITES specimens are traded with a minimum of delay. Section XII of Resolution Conf. 12.3 (Rev. CoP13) recommends use of simplified procedures for issuing CITES documents to expedite trade that will have no impact, or a negligible impact, on conservation of the species involved.

All Service permit applications are in the 3-200 series of forms, each tailored to a specific activity based on the requirements for specific types of permits. We collect standard identifier information for all permits, such as the name of the applicant and the applicant's address, telephone and fax numbers, tax identification number, and email address. Standardization of general information common to the application forms makes the filing of applications easier for the public, as well as expediting our review of applications.

The information that we collect on applications and reports is the minimum necessary for us to determine if the applicant meets/continues to meet issuance requirements for the particular activity. Respondents submit application forms periodically as needed; submission of reports is generally on an annual basis. We examined applications in this collection, focusing on questions frequently misinterpreted or not addressed by applicants. We have made clarifications to many of our applications to make it easier for the applicant to know what information we need and to accommodate future electronic permitting. We have subdivided our application Form 3-200-37 (tentatively into seven forms: Forms 3-200-37a through 3-200-37g) because it has become lengthy and cumbersome for the applicant to read through in order to find the appropriate activity for which they need a permit. Use of these forms will:

• Reduce burden on applicants.

• Improve customer service.

• Allow us to process applications and complete reviews quickly.

Proposed Revisions to This Information Collection

With this submission, we are proposing the following revisions to the existing information collection:

Transfer of Forms to OMB Control No. 1018-0092

We will request OMB approval to transfer the below-listed forms currently approved by OMB under this information collection (OMB Control No. 1018-0093) into OMB Control No. 1018-0092, “Federal Fish and Wildlife Applications and Reports—Law Enforcement; 50 CFR 13 and 14”:

• FWS Form 3-200-44, “Permit Application Form: Registration of an Agent/Tannery under the Marine Mammal Protection Act (MMPA),” and

• FWS Form 3-200-44a, “Registered Agent/Tannery Bi-Annual Inventory Report.”

The Service's Office of Law Enforcement in the Alaska Region uses the information collected on FWS Form 3-200-44 to register qualified agents and tanneries for polar bear (Ursus maritimus), walrus (Odobenus rosmarus), and northern sea otter (Enhydra lutris kenyoni) under the MMPA. This registration facilitates the transfer of marine mammal specimens taken by Alaska Natives for the purposes of subsistence or creation of authentic Native handicraft articles and clothing. As such, it is more appropriate that these forms be transferred to, and approved by OMB under, OMB Control No. 1018-0092, “Federal Fish and Wildlife Applications and Reports—Law Enforcement; 50 CFR 13 and 14.”

Biannually (twice a year) on or before the 10th day of January and July, we require that the permittee submit to us FWS Form 3-200-44a, containing detailed activities of each registered agent or registered tannery for each transaction related to Polar bear, walrus, and northern sea otter. If no transactions occurred, the permittee must submit a negative report. The associated estimated annual burden of Forms 3-200-44/44a is 45 responses and 42 burden hours. If OMB approves this revision request, we will revise OMB Control No. 1018-0092 to add those two forms to avoid duplication of burden.

International Reporting Requirements

Additionally, with this submission, we will submit to OMB for approval the information collection requirements associated with international reporting requirements specified in 50 CFR 13.21(5), 50 CFR 17.22(b)(v), 50 CFR 17.31(b)(v), 50 CFR 18.30(c)(2), 50 CFR 23.6, and 50 CFR 23.33(b). These reporting requirements are associated with the findings we must make under the various laws, treaties, and regulations administered by the Service. This may include consultation on sustainable use, population data, management practices, and verification of information received from other sources. The Service does not provide a form for this collection; rather, we request specific information based on the most current data we hold, in order to enable us to update or clarify that data. We estimate the annual burden associated with the international reporting requirements to be 24 responses and 192 burden hours. There is no nonhour burden cost associated with the international reporting requirements.

ePermits Initiative

The Service's new “ePermits” initiative is an automated permit application system that will allow the agency to move towards a streamlined permitting process to reduce public burden. Public burden reduction is a priority for the Service; the Assistant Secretary for Fish, Wildlife, and Parks; and senior leadership at the Department of the Interior. The intent of the ePermits initiative is to fully automate the permitting process to improve the customer experience and to reduce time burden on respondents. This new system will enhance the user experience by allowing users to enter data from any device that has internet access, including PCs, tablets, and smartphones. It will also link the permit applicant to the Pay.gov system for payment of the associated permit application fee.

We anticipate including the following Service forms in the ePermits initiative: 3-200-19 through 3-200-37, 3-200-39 through 3-200-43, 3-200-46 through 3-200-53, 3-200-58, 3-200-61, 3-200-64 through 3-200-66, 3-200-69, 3-200-70, 3-200-73 through 3-200-76, 3-200-80, and 3-200-85 through 3-200-88.

Title of Collection: Federal Fish and Wildlife Permit Applications and Reports—Management Authority; 50 CFR 12, 13, 14, 15, 16, 17, 18, 21, 23.

OMB Control Number: 1018-0093.

Form Numbers: FWS Forms 3-200-19 through 3-200-37, 3-200-39 through 3-200-43, 3-200-46 through 3-200-53, 3-200-58, 3-200-61, 3-200-64 through 3-200-66, 3-200-69, 3-200-70, 3-200-73 through 3-200-76, 3-200-80, and 3-200-85 through 3-200-88.

Type of Review: Revision of a currently approved collection.

Description of Respondents/Affected Public: Individuals; biomedical companies; circuses; zoological parks; botanical gardens; nurseries; museums; universities; antique dealers; exotic pet industry; hunters; taxidermists; commercial importers/exporters of wildlife and plants; freight forwarders/brokers; and State, tribal, local, and Federal governments.

Estimated Number of Annual Respondents: 6,315.

Estimated Number of Annual Responses: 8,224.

Estimated Completion Time per Response: Varies from 15 minutes to 43.5 hours, depending on activity.

Estimated Annual Burden Hours: 6,833.

Respondent's Obligation: Required to obtain or retain a benefit.

Frequency of Collection: On occasion or annually, depending on activity.

Total Estimated Annual Nonhour Burden Cost: $552,336 for costs associated with application processing fees, which range from $0 to $250. There is no fee for reports. Federal, tribal, State, and local government agencies and those acting on their behalf are exempt from processing fees.

An agency may not conduct or sponsor and a person is not required to respond to a collection of information unless it displays a currently valid OMB control number.

The authority for this action is the Paperwork Reduction Act of 1995 (44 U.S.C. 3501 et seq.).

Dated: October 17, 2019.
Madonna L. Baucum,
Information Collection Clearance Officer, U.S. Fish and Wildlife Service.

[FR Doc. 2019-22964 Filed 10-21-19; 8:45 am]

BILLING CODE 4333-15-P